DEPARTMENT OF HOMELAND SECURITY

Coast Guard

[Docket No. USCG-2012-0212]

Navigation Safety Advisory Council

AGENCY: Coast Guard, DHS.

ACTION: Notice of Federal Advisory Committee Meeting.

SUMMARY: The Navigation Safety Advisory Council (NAVSAC) will meet on November 28 and 29, 2012 in Tampa, Florida, to discuss matters relating to maritime collisions, ramming, groundings, Inland and International Rules of the Road, navigation regulations and equipment, routing measures, marine information, diving safety, and aids to navigation systems. The meeting will be open to the public.

DATES: NAVSAC will meet Wednesday, November 28, 2012, from 8 a.m. to 5 p.m., and Thursday, November 29, 2012, from 8 a.m. to 5 p.m. Please note that the meeting may close early if the committee has completed its business. Pre-registration and written comments are due November 19, 2012.

ADDRESSES: The meeting will be held at the Embassy Suites Tampa Downtown, 513 South Florida Avenue, Tampa, Florida 22602. http://embassysuites3.hilton.com/en/hotels/florida/embassy-suites-tampa-downtown-convention-center-TPAESES/index.html.

For information on facilities or services for individuals with disabilities or to request special assistance at the meeting, contact the individuals listed in the FOR FURTHER INFORMATION CONTACT section as soon as possible.

To facilitate public participation, we are inviting public comment on the issues to be considered by the committee as listed in the “Agenda” section below.

You may submit written comments no later than November 19, 2012, and must be identified by USCG-2012-0212 using one of the following methods:

• Federal eRulemaking Portal: http://www.regulations.gov. Follow the instructions for submitting comments (preferred method to avoid delays in processing).

• Fax: 202-493-2251.

• Mail: Docket Management Facility (M-30), U.S. Department of Transportation, West Building Ground Floor, Room W12-140, 1200 New Jersey Avenue SE. Washington, DC 20590-0001.

• Hand delivery: Same as mail address above, between 9 a.m. and 5 p.m., Monday through Friday, except Federal holidays. The telephone number is 202-366-9329.

Instructions: All submissions received must include the words “Department of Homeland Security” and the docket number for this action. Comments received will be posted without alteration at http://www.regulations.gov, including any personal information provided. You may review a Privacy Act notice regarding our public dockets in the January 17, 2008, issue of the Federal Register (73 FR 3316).

Docket: For access to the docket to read documents or comments related to this notice, go to http://www.regulations.gov.

A public comment period will be held during the meeting on November 28, 2012, from 3 to 4 p.m. and November 29, 2012, from 12 to 1 p.m. Public presentations may also be given. Speakers are requested to limit their comments to 10 minutes. Please note that the public comment period may end before the time indicated, following the last call for comments. Contact the individual listed below to register as a speaker.

FOR FURTHER INFORMATION CONTACT: If you have questions about this meeting, please contact Mr. Mike Sollosi, the NAVSAC Alternate Designated Federal Officer (ADFO), at telephone 202-372-1545 or email mike.m.sollosi@uscg.mil, or Mr. Burt Lahn, at telephone 202-372-1526 or email burt.a.lahn@uscg.mil. If you have questions on viewing or submitting material to the docket, call Renee V. Wright, Program Manager, Docket Operations, telephone 202-366-9826.

SUPPLEMENTARY INFORMATION: Notice of this meeting is given under the Federal Advisory Committee Act (FACA), 5 U.S.C. App. (Pub. L. 92-463).

The NAVSAC is an advisory committee authorized in 33 U.S.C. 2073 and chartered under the provisions of the FACA. NAVSAC provides advice and recommendations to the Secretary, through the Commandant of the U.S. Coast Guard, on matters relating to prevention of maritime collisions, rammings, and groundings, Inland and International Rules of the Road, navigation regulations and equipment, routing measures, marine information, diving safety, and aids to navigation systems.

Agenda: The NAVSAC will meet to review, discuss and formulate recommendations on the following topics: Wednesday, November 28, 2012

(1) Update from the Coast Guard on all past resolutions and recommendations made by the Council—

The Coast Guard will provide an update on the status of the Coast Guard's implementation of resolutions and recommendations made by the Council.

(2) Autonomously Operated Vessels. The Council will receive an update on the status of these vessels including their production and use. The Council will be updated regarding a possible course of action pertaining to future Inland and International Rules of the Road changes.

(3) Protection for vessels engaged in servicing submarine cables.

(4) Differential Global Positioning System (DGPS) requirements. The Council will receive an update on the current system the CG will invite their comments or input regarding the extent of current users.

(5) Off-shore wind farms/renewable energy. The Council will receive an update of the status of offshore wind energy development.

(6) Request the Coast Guard to establish Council working groups to discuss the preceding topics as appropriate.

Public comments or questions will be taken during the meeting as the Council discusses each issue and prior to the Council formulating recommendations on each issue. There will also be a public comment period at the end of the meeting.

Thursday, November 29 2012

(1) Working Group Discussions continue from November 28, 2012.

(2) Working Group Reports presented to the Council.

(3) New Business.

a. Identification of new NAVSAC tasks by the Coast Guard.

b. Committee discussion of new tasks.

A public comment period will be held after the discussion of new tasks. Speakers' comments are limited to 10 minutes each. Public comments or questions will be taken at the discretion of the DFO during the discussion and recommendations, and new business portion of the meeting.

c. Schedule Next Meeting Date—Summer 2013.

Dated: November 7, 2012.
Dana A. Goward,
Director, Marine Transportation Systems, U.S. Coast Guard.

[FR Doc. 2012-27557 Filed 11-9-12; 8:45 am]

BILLING CODE 9110-04-P